DEPARTMENT OF THE TREASURY

Internal Revenue Service

26 CFR Parts 1 and 602

[TD 8971]

RIN 1545-BA49

New Markets Tax Credit; Correction

AGENCY: Internal Revenue Service (IRS), Treasury.

ACTION: Correction to temporary regulations.

SUMMARY: This document contains a correction to temporary regulations that was published in the Federal Register on December 26, 2001 (66 FR 66307). This document contains temporary regulations that provide guidance for taxpayers claiming the new markets tax credit under section 45D.

DATES: This correction is effective December 26, 2001.

FOR FURTHER INFORMATION CONTACT: Paul Handleman (202) 622-3040 (not a toll-free number).

SUPPLEMENTARY INFORMATION:

Background

The temporary regulations that are the subject of this correction are under section 45D of the Internal Revenue Code.

Need for Correction

As published, the temporary regulations (TD 8971) contains errors that may prove to be misleading and are in need of clarification.

Correction of Publication

Accordingly, the publication of the temporary regulations (TD 8971), which is the subject of FR. Doc. 01-31528, is corrected as follows:

On page 66310, column 1, under the paragraph heading “Part 1—Income Taxes”, following paragraph 1, please insert in the amendatory instruction “Par. 1a. The undesignated center heading immediately preceding § 1.30-1 is revised to read as follows: Credits Allowable Under Sections 30 through 45D”.

LaNita Van Dyke,
Acting Chief, Regulations Unit, Associate Chief Counsel, (Income Tax and Accounting).

[FR Doc. 02-2621 Filed 2-1-02; 8:45 am]

BILLING CODE 4830-01-P